DEPARTMENT OF STATE

[Public Notice: 6796]

30-Day Notice of Proposed Information Collection: DS-4024, DS-4024e, American Citizens Services Internet Based Registration Service (IBRS), OMB No. 1405-0152

ACTION: Notice of request for public comment and submission to OMB of proposed collection of information.

SUMMARY: The Department of State has submitted the following information collection request to the Office of Management and Budget (OMB) for approval in accordance with the Paperwork Reduction Act of 1995.

• Title of Information Collection: American Citizens Services Internet Based Registration Service (IBRS).

• OMB Control Number: 1405-0152.

• Type of Request: Revision.

• Originating Office: Bureau of Consular Affairs, Overseas Citizens Services (CA/OCS).

• Form Number: DS-4024, DS-4024e.

• Respondents: United States Citizens and Nationals.

• Estimated Number of Respondents: 676,946.

• Estimated Number of Responses: 676,946.

• Average Hours Per Response: 20 minutes.

• Total Estimated Burden: 225,648 hours.

• Frequency: On Occasion.

• Obligation to Respond: Voluntary.

DATES: Submit comments to the Office of Management and Budget (OMB) for up to 30 days from October 27, 2009.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A. Rivers, Bureau of Consular Affairs, Overseas Citizens Services (CA/OCS/PRI), U.S. Department of State, SA-29, 4th Floor, Washington, DC 20520, who may be reached on (202) 736-9082 or ASKPRI@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The American Citizens Services Internet Based Registration Service (IBRS) makes it possible for U.S. nationals to register on-line from anywhere in the world. In the event of a family emergency, natural disaster, country-specific notice or international crisis, U.S. embassies and consulates rely on this registration information to provide critical information and assistance to them.

Methodology: 99% of responses are received via electronic submission on the Internet. The service is available on the Department of State, Bureau of Consular Affairs web site http://travel.state.gov at https://travelregistration.state.gov/ibrs/. The paper version of the collection permits respondents who do not have Internet access to provide the information to the U.S. embassy or consulate by fax, mail or in person.

Dated: August 28, 2009.
Mary Ellen Hickey,
Managing Director, Bureau of Consular Affairs, Department of State.

[FR Doc. E9-25823 Filed 10-26-09; 8:45 am]

BILLING CODE 4710-06-P